DEPARTMENT OF THE INTERIOR

Office of the Secretary

[234D0102DM, DS61200000, DLSN00000.000000, DX61201]

Draft Prospectus for the First National Nature Assessment

AGENCY: Office of Policy Analysis, Interior.

ACTION: Notice, request for public comments.

SUMMARY: With this notice, the U.S. Global Change Research Program (USGCRP) seeks public comment on the proposed themes and framework of the First National Nature Assessment. Based on input received from this notice, USGCRP will begin the next phases of assessment development.

DATES: Comments must be submitted by 11:59 p.m. on September 18, 2023.

ADDRESSES: Comments from the public will be accepted electronically via https://www.globalchange.gov/notices. Instructions for submitting comments are available on the website. Submitters may enter text or upload files in response to this notice.

FOR FURTHER INFORMATION CONTACT: Chris Avery, (202) 419-3474, cavery@usgcrp.gov, U.S. Global Change Research Program.

SUPPLEMENTARY INFORMATION: The U.S. Global Change Research Program (USGCRP) was created by Congress in 1990 to “assist the Nation and the world to understand, assess, predict, and respond to human-induced and natural processes of global change.” USGCRP comprises 14 Federal agencies that work together to carry out its legislative mandate. USGCRP is conducting the First National Nature Assessment (NNA1) to assess changes in nature as an aspect of global change. With this notice, the United States Department of the Interior, on behalf of the USGCRP, seeks public comment on a prospectus for NNA1.

The scope of NNA1 is to assess the status, observed trends, and future projections of America's lands, waters, wildlife, biodiversity, and ecosystems and the benefits they provide, including connections to the economy, public health, equity, climate mitigation and adaptation, and national security.

In developing NNA1, USGCRP will follow the principles of a use-inspired, knowledge-informed assessment, in which the design is driven both by the potential uses of the final products and by science and other forms of knowledge. USGCRP recognizes the importance of lived experiences and acknowledges Indigenous Knowledge as an important form of evidence. Across all phases of NNA1, USGCRP aims to be inclusive, represent diverse perspectives, and create products that are accessible to the widest possible audience. To achieve these aims, USGCRP will engage the public and Tribal Nations multiple times throughout the development process, using diverse means to increase accessibility and inclusion.

I. Development of the First National Nature Assessment Through a Proposed Report and Portfolio of Associated Products

Striving for a use-inspired and knowledge-informed assessment, USGCRP initiated NNA1 with requests for input. This included engagements with federal agencies, the public, and Tribal and Indigenous communities. Input was sought through a Request for Information (87 FR 65622) on what specific questions the assessment should answer, what products should be created, what engagement processes should be used, and what knowledge sources should be drawn from, among other topics. USGCRP held multiple public engagement sessions and a formal Tribal Consultation. Over 3,000 comments were received online and through the engagement and Consultation sessions.

The Federal Steering Committee overseeing the development of NNA1 considered this public and Tribal input when developing the proposed elements of the assessment described below. For example, input showed that different communities have different questions relevant to the scope of NNA1 and would like to use information from the assessment in different ways. To be responsive to that input, USGCRP intends to develop a portfolio of assessment products of which an NNA1 report will be a core component. Additional products could include special issues of peer-reviewed journals; technical input reports; and community-created videos portraying diverse perspectives of nature, observed changes to nature, consequences of those changes, and the importance of nature.

II. The First National Nature Assessment: A Use-Inspired, Knowledge-Driven Report

The NNA1 will assess the state of knowledge regarding the status, observed trends, and future projections of nature in the United States and the consequences of those changes including shifts in the benefits that nature provides. NNA1 will consider nature in U.S. states, marine areas (U.S. Exclusive Economic Zone), territories, Native or Indigenous lands and waters, and other affiliated areas (as appropriate), as well as its significant interactions with global drivers.

The core product of NNA1 will be a use-inspired, knowledge-driven report that addresses a diverse set of questions received via public and Tribal input. USGCRP received many questions, spanning a range of themes, that potential users posed. This draft prospectus prioritizes a subset of these questions for consideration in this initial assessment. The questions included in the report will be addressed in a manner that meets specific Federal guidelines for information quality, information tracking, and technical development required of a Highly Influential Scientific Assessment. Findings will be made accessible through a range of user-specific outputs as described below. Consistent with Federal law, the report will support disability access and inclusion.

III. Overarching Themes of the First National Nature Assessment

The NNA1 report is currently planned to be organized around key thematic interests identified through federal agency, public, and Tribal engagement efforts. Those themes are (in alphabetical order):

• Conservation and Natural Resource Management

• Economic Interests

• Human Health and Well-Being

• Safety and Security

There are not discrete boundaries among these themes, and the proposed report would be structured and conducted to recognize and explore interconnections and tradeoffs among them, as possible. The themes and related focal questions are described in greater detail below. Federal agency, public, and Tribal input identified two cross-cutting areas that are woven throughout the other proposed themes for the NNA1 report:

• Climate Change

• Equity

To help reinforce the principle of being use-inspired, the proposed assessment would include presentation of themes through the lens of different user groups. In doing so, the technical results will be put into contexts and products that are relevant for diverse audiences.

A call for author nominations will be posted in a subsequent Federal Register notice. Authors will be tasked with assessing the state of knowledge, considering relevant aspects of historical trends, drivers of change, current status, and future projections, and the implications of those changes. Teams may assess technical information or scenarios on policy options to reverse declining trends in nature or the benefits that nature provides. Author teams will also seek to evaluate relevant regional variation in geography, climate, biodiversity, and culture, as well as other varying conditions that might be relevant to a scientific assessment.

In addition to a report, USGCRP will aim to develop other science and communication products that are responsive to user interests expressed through public, Tribal, and agency input. Outputs may include, but are not limited to, data dashboards, maps, graphics, indicators, user-specific summaries, and other communication materials. Consistent with Federal law and best scientific practices, data used in the assessment will be publicly available to the maximum extent practicable. The assessment will present a collection of resources to help ensure users can build on the results and develop tools or resources further tailored to their needs.

Conservation and Natural Resource Management

Public, Tribal, and agency input highlighted the importance of sustainable conservation and management of biodiversity, natural resources, and ecosystems to ensure their long-term preservation and protection for their own sake and for the benefit of present and future generations. USGCRP proposes to address a subset of focal questions related to these interests, such as:

• What are the existing status, trends, and drivers of change affecting species and ecosystems in the U.S., and what are important areas for representative biodiversity across U.S. lands and waters?

• How have access to nature and to associated benefits changed, and for whom?

• How have culturally significant species and ecosystems changed, and what are future options for sustaining them?

• How would future investments in conservation or restoration affect nature, equitable access to nature's benefits, and climate mitigation and adaptation?

Economic Interests

Public, Tribal, and agency input raised interest in economic activities, infrastructure, and employment that are directly or indirectly related to nature. Within this theme, the report would explore how changes in nature affect economic benefits, risks, and opportunities. USGCRP proposes to address a subset of focal questions related to these interests, such as:

• How many jobs are dependent on nature, and how have changes in nature affected jobs and livelihoods, and for whom?

• What aspects of the U.S. economy are connected to the status and trends of nature, and what future options for advancing the economy could provide net benefits to nature and the climate?

• Where could future infrastructure and economic development advance with the most benefit and least harm to nature and nature's benefits?

Human Health and Well-Being

Public, Tribal, and agency input emphasized the connections between changes in nature and human health and well-being, including links to physical health, mental health, and social health and well-being. USGCRP proposes to address a subset of focal questions related to these interests, such as:

• How have changes in nature affected physical, mental, and public health, as well as the equity of health risks and benefits?

• What are emerging health effects from changes in nature?

• What are future nature-based options to reduce health risks and enhance benefits for all people?

Safety and Security

Public, Tribal, and agency input highlighted issues related to ways in which changes in nature impact aspects of domestic safety and security. Topics of interest included changes in nature, such as increased frequency and intensity of natural hazards, desertification, changes in populations of pests and disease, loss of arable land, and other changes in nature that affect food and water security, and that directly or indirectly influence public safety and patterns of human behavior and movements. USGCRP proposes to address a subset of questions related to these interests, such as:

• What losses from natural and environmental hazards (e.g., loss of life, loss of livelihoods and economic productivity, damage to homes or infrastructure, loss of educational opportunities, damage to or loss of natural and cultural resources) have been averted by nature (e.g., protected areas, green and blue infrastructure, restored areas) over time, and for whom? Where and how much can nature-based solutions equitably reduce future risk from natural and environmental hazards?

• How have trends and spatial patterns in nature affected food and water security, and for whom? What are opportunities for nature-based solutions to avert emerging food and water security risks?

• Where might changes in nature and climate cause people within the United States to migrate from their current locations, and where might they go? What nature- or natural resource-related risks and opportunities are they likely to face when they relocate?

Climate

Public, Tribal, and agency input emphasized the strong interactions between changes in nature, nature's benefits, and the climate. Each of the four themes described above interacts with the climate. USGCRP proposes to synthesize and analyze climate-related opportunities and impacts across the four NNA1 themes by considering the relevant role of climate as a driver when assessing past trends in nature, including projected climate changes in answering questions about the future of nature, and answering the specific questions about interactions between nature and climate embedded in the themes above.

Equity

Public, Tribal and agency input highlighted the importance of environmental justice, inclusive decision-making, and equal access to nature and nature's benefits. The four NNA1 themes each include questions that address aspects of equity and the fair and just distribution of nature's benefits. USGCRP proposes to synthesize the impacts of changes in nature to equity and assess how changes in nature across the NNA1 themes impact the well-being and opportunities for all members of society.

In developing this report, USGCRP proposes to reflect and follow several recommendations received through the engagement process. The Federal Steering Committee developing NNA1 recognizes the importance and value of co-production, acknowledges the need to balance a co-production intent with the current institutional and resource constraints, strives to apply the concept of bridging knowledge systems—maintaining the integrity of different knowledge systems while weaving them together—and aims to create equitable space for all knowledge systems and knowledge holders. In doing so, USGCRP will respect the rights, values, and knowledge held by Indigenous and local communities.

IV. Development of Associated Products

In addition to a use-inspired, knowledge-informed NNA1 report, input from the public, Tribes, and agencies emphasized the need for an array of products associated with NNA1. Public and Tribal input emphasized the diversity of perspectives that people hold on nature and the impact of nature on their lives. The comments requested that USGCRP reflect that diversity, and as much as possible, do so in the voices of people themselves. In response to this input, USGCRP will explore the feasibility of video-based products related to the scope of NNA1. Video-based products would allow people from various perspectives to share their stories and reactions to questions such as: why is nature important to me, how is nature changing, and why does this matter?

USGCRP will also explore development of special issues of peer-reviewed journals and publication of technical reports on specific topics, with the intent that these efforts address additional questions received through the engagement process, close research gaps, strengthen individual aspects of the available knowledge base, and potentially serve as inputs to NNA1. For example, one such journal special issue recommended through Tribal Consultation is an Indigenous-led volume that explores perspectives of Indigenous Knowledge holders and scholars relevant to the scope of NNA1. A technical report with a focus on nature literacy relevant to the scope of NNA1 has also been recommended.

We seek public input on all aspects of the proposed NNA1.

Responses: Response to this Request for Comment is voluntary. Respondents need not comment on all topics. Responses may be used by the U.S. Government for program planning on a non-attribution basis. The United States Department of Interior therefore requests that no business proprietary information or copyrighted information be submitted in response to this Request for Comment. Please note that the U.S. Government will not pay for response preparation, or for the use of any information contained in the response.

Eric Werwa,
Deputy Assistant Secretary—Policy and Environmental Management, Office of Policy, Management, and Budget.

[FR Doc. 2023-16794 Filed 8-3-23; 8:45 am]

BILLING CODE 4334-63-P